ENVIRONMENTAL PROTECTION AGENCY

40 CFR Part 52

[EPA-R09-OAR-2009-0435; FRL-8976-2]

Approval and Promulgation of Implementation Plans; Corrections to the Arizona and Nevada State Implementation Plans; Withdrawal of Proposed Rule

AGENCY: Environmental Protection Agency (EPA).

ACTION: Withdrawal of proposed rule.

SUMMARY: On October 8, 2009 (74 FR 51824), EPA published a rule proposing to delete certain statutes and rules that were erroneously approved by EPA under the Clean Air Act as part of the Arizona and Nevada state implementation plans. EPA is withdrawing this previously published rule, and in this Federal Register, we are publishing a proposed rule that replaces the October 8, 2009, proposed rule.

DATES: The proposed rule published on October 8, 2009 (74 FR 51824) is withdrawn as of November 3, 2009.

FOR FURTHER INFORMATION CONTACT: Cynthia Allen, EPA Region IX, (415) 947-4120, allen.cynthia@epa.gov.

SUPPLEMENTARY INFORMATION: On October 8, 2009 (74 FR 51824), EPA published a rule proposing to delete certain statutes and rules that were erroneously approved by EPA under the Clean Air Act as part of the Arizona and Nevada state implementation plans. The statutes and rules that EPA proposed to delete relate to general declarations of policy, advisory committees, variances, and incidental fees and nuisance odors. Due to a clerical error, the proposed rule that was published on October 8, 2009 was inconsistent with the signed document. Consequently, we are withdrawing the proposed rule published on October 8, 2009, and in this Federal Register, we are publishing the proposed rule as originally signed. The proposed rule being published in this Federal Register replaces the following proposed rule published on October 8, 2009:

Title: Approval and Promulgation of Implementation Plans; Corrections to the Arizona and Nevada State Implementation Plans (Proposed rule, 74 FR 51824, October 8, 2009, EPA-R09-OAR-2009-0435).

List of Subjects in 40 CFR Part 52

Environmental protection, Air pollution control, Intergovernmental relations, Reporting and recordkeeping requirements.

Dated: October 19, 2009.
Nancy Lindsay,
Acting Regional Administrator, Region IX.

[FR Doc. E9-26327 Filed 11-2-09; 8:45 am]

BILLING CODE 6560-50-P